DEPARTMENT OF THE INTERIOR

Fish and Wildlife Service

[FWS-R1-R-2013-N221; 12560-0000-10137 S3]

Rose Atoll National Wildlife Refuge, American Samoa; Comprehensive Conservation Plan and Finding of No Significant Impact for Environmental Assessment

AGENCY: Fish and Wildlife Service, Interior.

ACTION: Notice of availability.

SUMMARY: We, the U.S. Fish and Wildlife Service (Service), announce the availability of our comprehensive conservation plan (CCP) and finding of no significant impact (FONSI) for the environmental assessment (EA) for the Rose Atoll National Wildlife Refuge (NWR or Refuge). In this CCP, we describe how we will manage the Refuge for the next 15 years.

ADDRESSES: You may view or obtain copies of the CCP and FONSI by any of the following methods. You may request a hard copy or a CD of the document.

Agency Web Site: Download the CCP and FONSI at www.fws.gov/pacific/planning or www.fws.gov/refuge/Rose_Atoll/what_we_do/planning.html.

Email: FW1PlanningComments@fws.gov. Include “Rose Atoll NWR CCP” in the subject line of the message.

Fax: Attn: Project Leader, (808) 792-9586.

Mail: Pacific Reefs National Wildlife Refuge Complex, 300 Ala Moana Boulevard, Room 5-231, Box 50167, Honolulu, HI 96813.

In-Person Viewing or Pickup: Rose Atoll National Wildlife Refuge/Marine National Monument, c/o National Park Service, Pago Pago, AS 96799.

For more information on locations for viewing or obtaining documents, see “Public Availability of Documents” under SUPPLEMENTARY INFORMATION.

FOR FURTHER INFORMATION CONTACT: Susan White, Project Leader, phone (808) 792-9481.

SUPPLEMENTARY INFORMATION:

Introduction

With this notice, we finalize the CCP process for the Refuge. We started this process with a notice of intent published in the Federal Register (74 FR 57701; November 9, 2009). We released the Draft CCP/EA to the public in a notice of availability requesting comments published in the Federal Register (77 FR 61426; October 9, 2012).

We announce the availability of the FONSI for the CCP/EA in accordance with National Environmental Policy Act (40 CFR 1506.6(b)) requirements. We completed a thorough analysis of impacts on the human environment in the Draft CCP/EA.

Rose Atoll NWR, located in American Samoa, was established in 1973 to conserve and protect fish and wildlife resources. The CCP will guide us in managing and administering the Refuge for the next 15 years. Alternative B in the Draft CCP/EA was selected for implementation. To address public comments received on the Draft CCP/EA, changes and clarifications were made to the Final CCP where appropriate. A summary of the public comments we received is included in the Final CCP with our responses.

Background

The National Wildlife Refuge System Administration Act of 1966, as amended by the National Wildlife Refuge System Improvement Act of 1997 (together referred to as the Refuge Administration Act) and other acts, 16 U.S.C. 668dd-668ee, requires us to develop a CCP for each national wildlife refuge. We develop a CCP to provide refuge managers with a 15-year plan for achieving refuge purposes and contributing toward the National Wildlife Refuge System's mission, consistent with sound principles of fish and wildlife management, conservation, legal mandates, and our policies. We will review and update the CCP at least every 15 years in accordance with the Refuge Administration Act.

Selected Alternative

Under the selected alternative, refuge management will emphasize protecting, restoring and maintaining habitats including the lagoon, perimeter crustose coralline algal reef, ava (channel), beach strand, and littoral forest, as well as species that rely on these habitats (e.g., corals, fish, seabirds, shorebirds, sea turtles, native plants, giant clams, and other invertebrates). Strategies for accomplishing the above include developing monitoring protocols, installing a remote camera system, increasing surveys, implementing a rapid response program to control existing and prevent new nonnative species, restoring native plants, and increasing applied research.

Increasing the frequency of management trips to the Refuge and strengthening partnerships with the American Samoa Government, National Oceanic and Atmospheric Administration, National Park Service, U.S. Geological Survey, and other partners are key components of our management direction. More frequent visits will allow for improved law enforcement oversight and compliance. In addition to monitoring atoll species, a remote camera system will also provide better management and documentation of any unauthorized entry to the Refuge. The Refuge will remain closed to the general public, with entry only allowed via special use permit.

Refuge staff will provide outreach and interpretation opportunities and develop an environmental education program focusing on “bringing the refuge to the people.” Appropriate cultural practices will also be facilitated through expanding refuge management activities related to cultural resources. We will work with the American Samoa Historical Preservation Office and other partners to conduct archaeological surveys at Rose Atoll NWR, integrate cultural resources into interpretation, and increase dialogue with the Office of Samoan Affairs and local villagers, among other activities.

Public Availability of Documents

In addition to any methods in ADDRESSES, you can view or obtain documents at the Feleti Barstow Public Library, National Park Office in Ofu, the High School in Ta'u and other places of public access in American Samoa.

Dated: July 30, 2014.
Stephen J. Zylstra,
Acting Regional Director, Pacific Region, Portland, Oregon.

[FR Doc. 2014-21667 Filed 9-17-14; 8:45 am]

BILLING CODE 4310-55-P